DEPARTMENT OF TRANSPORTATION

Federal Aviation Administration

Notice of Approval of the Supplemental Finding of No Significant Impact and Record of Decision for the Supplemental Environmental Assessment (EA) for Proposed Changes to the Construction of a New Land-Based Airport in Akutan, AK

AGENCY: Federal Aviation Administration (FAA), Department of Transportation (DOT).

ACTION: Notice of approval of the Supplemental Finding of No Significant Impact/Record of Decision.

SUMMARY: The Federal Aviation Administration is announcing the approval of the Supplemental Finding of No Significant Impact/Record of Decision (FONSI/ROD) for the Supplemental Environmental Assessment (EA) for changes proposed to the construction of a new land-based airport in Akutan, AK. The Supplemental FONSI/ROD provides final agency determinations and approvals for the proposed development.

FOR FURTHER INFORMATION CONTACT: Patti Sullivan, Environmental Program Manager, Federal Aviation Administration, Alaskan Region, Airports Division, 222 W. 7th Avenue #14, Anchorage, AK 99513-7504. Ms. Sullivan may be contacted during business hours at (907) 271-5454 (phone) and (907) 271-2851 (facsimile).

SUPPLEMENTARY INFORMATION: The Supplemental FONSI/ROD is for the approval of actions for proposed changes to the construction of an airport not previously addressed in the December 2007 environmental assessment FONSI/ROD. The proposed changes include realignment of the runway; expansion of the seaplane ramp in Akutan Harbor; realignment of Stream number 1; and temporary construction facilities including a barge landing and construction access road along Surf Bay, fuel storage facility, and a personnel camp. On December 26, 2007, the FAA approved a FONSI/ROD for the construction of a new land based airport including a runway, a runway safety area, connecting taxiway, an apron, and a snow removal equipment and maintenance facility; an airport access road; two hovercraft landing pads; a hovercraft storage and maintenance facility; and acquisition of a hovercraft The Supplemental FONSI/ROD provides the final agency determinations and approvals for Federal actions by the FAA related to the selection of alternatives to meet the purpose and need for the action. The Supplemental FONSI/ROD also includes required mitigation measures and conditions of approval. The Supplemental FONSI/ROD indicates that the selected actions are consistent with existing environmental policies and objectives set forth in the National Environmental Policy Act (NEPA) of 1969, as amended, as well as other federal and state statutes, and that the actions will not significantly affect the quality of the environment.

The FAA's decision is based upon information contained in the Supplemental EA, issued in March 3, 2011, and on all other applicable documents available to the agency and considered by it, which constitutes the administrative record.

The FAA's determinations are discussed in the Supplemental FONSI/ROD, which was approved on March 7, 2011.

FONSI/ROD Availability

The FONSI/ROD may be viewed at the following Web site http://www.faa.gov/airports/alaskan/environmental/.

Issued in Anchorage, Alaska on March 30, 2011.
Byron K. Huffman,
Manager, Airports Division, Alaskan Region.

[FR Doc. 2011-8529 Filed 4-11-11; 8:45 am]

BILLING CODE 4913-13-M